DEPARTMENT OF HEALTH AND HUMAN SERVICES

National Institutes of Health

National Cancer Institute; Cancellation of Meeting

Notice is hereby given of the cancellation of the National Cancer Institute Special Emphasis Panel FFRDC Review Meeting, May 9, 2025, 9:00 a.m. to May 9, 2025, 6:00 p.m., National Cancer Institute, West Tower, 9609 Medical Center Dr., Rockville, MD 20850 which was published in the Federal Register on April 17, 2025, FR Doc. 2025-06556, 90 FR 16137.

This meeting has been canceled and will not be rescheduled.

Dated: April 22, 2025.
Melanie J. Pantoja,
Program Analyst, Office of Federal Advisory Committee Policy.

[FR Doc. 2025-07208 Filed 4-25-25; 8:45 am]

BILLING CODE 4140-01-P